DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Tuscaloosa (FEMA Docket No.: B-2073) | City of Northport (20-04-4421P). | The Honorable Donna Aaron, Mayor, City of Northport, 3500 McFarland Boulevard, Northport, AL 35476. | City Hall, 3500 McFarland Boulevard, Northport, AL 35476. | Feb. 2, 2021 | 010202
Tuscaloosa (FEMA Docket No.: B-2073) | Unincorporated areas of Tuscaloosa County (20-04-4421P). | The Honorable Rob Robertson, Probate Judge, Tuscaloosa County, 714 Greensboro Avenue, Tuscaloosa, AL 35401. | Tuscaloosa County Public Works Department, 2810 35th Street, Tuscaloosa, AL 35401. | Feb. 2, 2021 | 010201
Colorado:
Boulder (FEMA Docket No.: B-2073) | City of Boulder (20-08-0632P). | The Honorable Sam Weaver, Mayor, City of Boulder, P.O. Box 791, Boulder, CO 80306. | Central Records Department, 1777 Broadway Street, Boulder, CO 80302. | Feb. 19, 2021 | 080024
Boulder (FEMA Docket No.: B-2073) | Unincorporated areas of Boulder County (20-08-0632P). | The Honorable Deb Gardner, Chair, Boulder County Board of Commissioners, P.O. Box 471, Boulder, CO 80306. | Boulder County Department of Public Works, 1739 Broadway, Suite 300, Boulder, CO 80306. | Feb. 19, 2021 | 080023
Denver (FEMA Docket No.: B-2067) | City and County of Denver (20-08-0372P). | The Honorable Michael B. Hancock, Mayor, City and County of Denver, 1437 North Bannock Street, Room 350, Denver, CO 80202. | Department of Public Works, 201 West Colfax Avenue, Denver, CO 80202. | Feb. 11, 2021 | 080046
El Paso (FEMA Docket No.: B-2067) | Unincorporated areas of El Paso County (20-08-0369P). | The Honorable Mark Waller, Chairman, El Paso County Board of Commissioners, 200 South Cascade Avenue, Suite 100, Colorado Springs, CO 80903. | Pikes Peak Regional Development Center, 2880 International Circle, Colorado Springs, CO 80910. | Feb. 16, 2021 | 080059
Weld (FEMA Docket No.: B-2073) | City of Greeley (20-08-0390P). | The Honorable John Gates, Mayor, City of Greeley, 1000 10th Street, Greeley, CO 80631. | City Hall, 1000 10th Street, Greeley, CO 80631. | Feb. 16, 2021 | 080184
Connecticut: New Haven (FEMA Docket No.: B-2076) | Town of Seymour (20-01-0712P). | The Honorable W. Kurt Miller, First Selectman, Town of Seymour Board of Selectmen, 1 1st Street, Seymour, CT 06483. | Town Hall, 1 1st Street, Seymour, CT 06483. | Feb. 16, 2021 | 090088
Florida:
Bay (FEMA Docket No.: B-2067) | Unincorporated areas of Bay County (19-04-4735P). | The Honorable Robert Carroll, Chairman, Bay County Board of Commissioners, 840 West 11th Street, Panama City, FL 32401. | Bay County Planning and Zoning Department, 840 West 11th Street, Panama City, FL 32401. | Feb. 16, 2021 | 120004
Hillsborough (FEMA Docket No.: B-2067) | City of Tampa (20-04-0296P). | The Honorable Jane Castor, Mayor, City of Tampa, 306 East Jackson Street, Tampa, FL 33602. | Planning and Development Department, 1400 North Boulevard, Tampa, FL 33607. | Feb. 8, 2021 | 120114
Hillsborough (FEMA Docket No.: B-2067) | Unincorporated areas of Hillsborough County (20-04-0296P). | Ms. Bonnie M. Wise, Hillsborough County Administrator, 601 East Kennedy Boulevard, Tampa, FL 33602. | Hillsborough County Development Services Department, 601 East Kennedy Boulevard, Tampa, FL 33602. | Feb. 8, 2021 | 120112
Lee (FEMA Docket No.: B-2052) | City of Sanibel (20-04-2943P). | The Honorable Kevin Ruane, Mayor, City of Sanibel, 800 Dunlop Road, Sanibel, FL 33957. | Community Services Department, 800 Dunlop Road, Sanibel, FL 33957. | Nov. 10, 2020 | 120402
Manatee (FEMA Docket No.: B-2076) | Unincorporated areas of Manatee County (20-04-3373P). | The Honorable Betsy Benac, Chair, Manatee County Board of Commissioners, 1112 Manatee Avenue West, Bradenton, FL 34205. | Manatee County Administration Building, 1112 Manatee Avenue West, Bradenton, FL 34205. | Feb. 16, 2021 | 120153
Monroe (FEMA Docket No.: B-2073) | City of Marathon (20-04-4546P). | The Honorable Steve Cook, Mayor, City of Marathon, 9805 Overseas Highway, Marathon, FL 33050. | Planning Department, 9805 Overseas Highway, Marathon, FL 33050. | Feb. 16, 2021 | 120681
Monroe (FEMA Docket No.: B-2073) | Unincorporated areas of Monroe County (20-04-4807P). | The Honorable Heather Carruthers, Mayor, Monroe County Board of Commissioners, 500 Whitehead Street, Suite 102, Key West, FL 33040. | Monroe County Building Department, 2798 Overseas Highway, Suite 300, Marathon, FL 33050. | Feb. 16, 2021 | 125129
Orange (FEMA Docket No.: B-2067) | Unincorporated areas of Orange County (20-04-1076P). | The Honorable Jerry L. Demings, Mayor, Orange County, 201 South Rosalind Avenue, 5th floor, Orlando, FL 32801. | Orange County Planning and Development Department, 4200 South John Young Parkway, Orlando, FL 32839. | Feb. 12, 2021 | 120179
Osceola (FEMA Docket No.: B-2067) | Unincorporated areas of Osceola County (20-04-1076P). | The Honorable Viviana Janer, Chair, Osceola County Board of Commissioners, 1 Courthouse Square, Suite 4700, Kissimmee, FL 34741. | Osceola County Building Department, 1 Courthouse Square, Suite 1400, Kissimmee, FL 34741. | Feb. 12, 2021 | 120189
Palm Beach (FEMA Docket No.: B-2073) | Village of Royal Palm Beach (20-04-3502P). | The Honorable Fred Pinto, Mayor, Village of Royal Palm Beach, 1050 Royal Palm Beach Boulevard, Royal Palm Beach, FL 33411. | Village Hall, 1050 Royal Palm Beach Boulevard, Royal Palm Beach, FL 33411. | Feb. 9, 2021 | 120225
Sarasota (FEMA Docket No.: B-2073) | Unincorporated areas of Sarasota County (20-04-4720P). | The Honorable Michael A. Moran, Chairman, Sarasota County Board of Commissioners, 1660 Ringling Boulevard, Sarasota, FL 34236. | Sarasota County Planning and Development Services Department, 1001 Sarasota Center Boulevard, Sarasota, FL 34240. | Feb. 11, 2021 | 125144
Georgia:
Bryan (FEMA Docket No.: B-2073) | Unincorporated areas of Bryan County (20-04-2261P). | The Honorable Carter Infinger, Chairman, Bryan County Board of Commissioners, P.O. Box 430, Pembroke, GA 31321. | Bryan County Department of Community Development, 66 Captain Matthew Freeman Drive, Suite 201, Richmond Hill, GA 31324. | Feb. 5, 2021 | 130016
Douglas (FEMA Docket No.: B-2073) | Unincorporated areas of Douglas County (20-04-2682P). | Ms. Romona Jackson Jones, Chair, Douglas County Board of Commissioners, 8700 Hospital Drive, 3rd Floor, Douglasville, GA 30134. | Douglas County Engineering Division, 8700 Hospital Drive, 1st Floor, Douglasville, GA 30134. | Feb. 16, 2021 | 130306
Maine: Kennebec (FEMA Docket No.: B-2073) | City of Waterville (20-01-0604P). | Mr. Michael Roy, Manager, City of Waterville, 1 Common Street, Waterville, ME 04901. | City Hall, 1 Common Street, Waterville, ME 04901. | Feb. 19, 2021 | 230070
North Carolina:
Johnston (FEMA Docket No.: B-2067) | Town of Wilson's Mills (20-04-2016P). | The Honorable Jim Uzzle, Jr., Mayor, Town of Wilson's Mills, P.O. Box 448, Wilson's Mills, NC 27593. | Town Hall, 100 Railroad Street, Wilson's Mills, NC 27593. | Feb. 4, 2021 | 370262
Johnston (FEMA Docket No.: B-2067) | Unincorporated areas of Johnston County (20-04-2016P). | The Honorable Chad M. Stewart, Chairman, Johnston County Board of Commissioners, P.O. Box 1049 Smithfield, NC 27577. | Johnston County Planning Department, 309 East Market Street, Smithfield, NC 27577. | Feb. 4, 2021 | 370138
Orange (FEMA Docket No.: B-2109) | Unincorporated areas of Orange County (19-04-6660P). | The Honorable Renee Price, Chair, Orange County Board of Commissioners, P.O. Box 8181, Hillsborough, NC 27278. | Orange County Planning Department, 131 West Margaret Lane, Suite 201, Hillsborough, NC, 27278. | Jan. 20, 2021 | 370342
Pennsylvania: Lackawanna (FEMA Docket No.: B-2073) | City of Scranton (20-03-0798P). | The Honorable Paige G. Cognetti, Mayor, City of Scranton, 340 North Washington Avenue, Scranton, PA 18503. | Planning Department, 340 North Washington Avenue, Scranton, PA 18503. | Feb. 16, 2021 | 420538
Tennessee: Williamson (FEMA Docket No.: B-2076) | City of Franklin (20-04-2146P). | The Honorable Ken Moore, Mayor, City of Franklin, 109 3rd Avenue South, Suite 103, Franklin, TN 37064. | Engineering Department, 109 3rd Avenue South Franklin, TN 37064. | Feb. 19, 2021 | 470206
Texas:
Atascosa (FEMA Docket No.: B-2073) | Unincorporated areas of Atascosa County (20-06-2205P). | The Honorable Robert L. Hurley, Atascosa County Judge, 1 Courthouse Circle Drive, Suite 206, Jourdanton, TX 78026. | Atascosa County Courthouse, 1 Courthouse Circle Drive, Jourdanton, TX 78026. | Feb. 4, 2021 | 480014
Bell (FEMA Docket No.: B-2067) | City of Temple (20-06-2105P). | The Honorable Tim Davis, Mayor, City of Temple, 2 North Main Street, Suite 103, Temple, TX 76501. | Department of Public Works, Engineering Division, 3210 East Avenue H, Building A, Suite 107, Temple, TX 76501. | Feb. 16, 2021 | 480034
Bexar (FEMA Docket No.: B-2100) | City of San Antonio (20-06-1037P). | The Honorable Ron Nirenberg, Mayor, City of San Antonio, P.O. Box 839966, San Antonio, TX 78283. | Transportation and Capital Improvements Department, Stormwater Division, 114 West Commerce, 7th Floor, San Antonio, TX 78205. | Feb. 16, 2021 | 480045
Bexar (FEMA Docket No.: B-2100) | Unincorporated areas of Bexar County (20-06-1037P). | The Honorable Nelson W. Wolff, Bexar County Judge, 101 West Nueva Street, 10th Floor, San Antonio, TX 78205. | Bexar County Public Works Department, 1948 Probandt Street, San Antonio, TX 78214. | Feb. 16, 2021 | 480035
Denton (FEMA Docket No.: B-2073) | City of Justin (20-06-1792P). | The Honorable Alan Woodall, Mayor, City of Justin, P.O. Box 129, Justin, TX 76247. | Planning and Zoning Department, 415 North College Avenue, Justin, TX 76247. | Feb. 16, 2021 | 480778
Kaufman (FEMA Docket No.: B-2073) | City of Crandall (20-06-2061P). | The Honorable Danny Kirbie, Mayor, City of Crandall, 110 South Main Street, Crandall, TX 75114. | City Hall, 110 South Main Street, Crandall, TX 75114. | Feb. 19, 2021 | 480409
Kaufman (FEMA Docket No.: B-2059) | City of Forney (20-06-1624P). | The Honorable Mary Penn, Mayor, City of Forney, P.O. Box 826, Forney, TX 75126. | City Hall, 101 East Main Street, Forney, TX 75126. | Feb. 8, 2021 | 480410
Kaufman (FEMA Docket No.: B-2059) | Unincorporated areas of Kaufman County (20-06-1624P). | The Honorable Hal Richards, Kaufman County Judge, 100 West Mulberry Street, Kaufman, TX 75142. | Kaufman County Development Services Department, 106 West Grove Street, Kaufman, TX 75142. | Feb. 8, 2021 | 480411
Kaufman (FEMA Docket No.: B-2073) | Unincorporated areas of Kaufman County (20-06-2061P). | The Honorable Hal Richards, Kaufman County Judge, 100 West Mulberry Street, Kaufman, TX 75142. | Kaufman County Development Services Department, 106 West Grove Street, Kaufman, TX 75142. | Feb. 19, 2021 | 480411
Randall (FEMA Docket No.: B-2073) | Unincorporated areas of Randall County (20-06-2051P). | The Honorable Ernie Houdashell, Randall County Judge, 501 16th Street, Suite 303, Canyon, TX 79015. | Randall County Road and Bridge Department, 301 West Highway 60, Canyon, TX 79015. | Feb. 19, 2021 | 480532
Tarrant (FEMA Docket No.: B-2073) | City of Benbrook (20-06-0768P). | The Honorable Jerry Dittrich, Mayor, City of Benbrook, 911 Winscott Road, Benbrook, TX 76126. | City Hall, 911 Winscott Road, Benbrook, TX 76126. | Feb. 16, 2021 | 480586
Tarrant (FEMA Docket No.: B-2073) | City of Fort Worth (20-06-0768P). | The Honorable Betsy Price, Mayor, City of Fort Worth, 200 Texas Street, Fort Worth, TX 76102. | Transportation and Public Works Department, Engineering Vault, 200 Texas Street, Fort Worth, TX 76102. | Feb. 16, 2021 | 480596
Virginia:
Goochland (FEMA Docket No.: B-2076) | Unincorporated areas of Goochland County (20-03-0873P). | The Honorable Susan F. Lascolette, Chair, Goochland County Board of Supervisors, P.O. Box 10, Goochland, VA 23063. | Goochland County Environmental and Development Review Department, 1800 Sandy Hook Road, Goochland, VA 23063. | Feb. 8, 2021 | 510072
Henrico (FEMA Docket No.: B-2076) | Unincorporated areas of Henrico County (20-03-0873P). | Mr. John A. Vithoulkas, Manager, Henrico County, P.O. Box 90775, Henrico, VA 23273. | Henrico County Department of Public Works, 4305 East Parham Road, Henrico, VA 23228. | Feb. 8, 2021 | 510077
Loudoun (FEMA Docket No.: B-2076) | Unincorporated areas of Loudoun County (20-03-1100P). | Mr. Tim Hemstreet, Loudoun County Administrator, P.O. Box 7000, Leesburg, VA 20177. | Loudoun County Office of Mapping and Geographic Information, 1 Harrison Street, Southeast, Leesburg, VA 20175. | Feb. 16, 2021 | 510090
Prince William (FEMA Docket No.: B-2076) | City of Manassas (20-03-0768P). | The Honorable Harry J. Parrish, II, Mayor, City of Manassas, 9027 Center Street, Manassas, VA 20110. | Public Works Department, 8500 Public Works Drive, Manassas, VA 20110. | Feb. 4, 2021 | 510122

[FR Doc. 2021-05222 Filed 3-11-21; 8:45 am]

BILLING CODE 9110-12-P